DEPARTMENT OF AGRICULTURE

Animal and Plant Health Inspection Service

[Docket No. APHIS-2008-0141]

Availability of an Environmental Assessment for a Biological Control Agent for Arundo donax

AGENCY: Animal and Plant Health Inspection Service, USDA.

ACTION: Notice of availability and request for comments.

SUMMARY: We are advising the public that the Animal and Plant Health Inspection Service has prepared an environmental assessment relative to the control of Arundo donax (giant reed, Carrizo cane). The environmental assessment considers the effects of, and alternatives to, the release of a wasp, Tetramesa romana, into the continental United States for use as a biological control agent to reduce the severity of A. donax infestations. We are making the environmental assessment available to the public for review and comment.

DATES: We will consider all comments that we receive on or before April 6, 2009.

ADDRESSES: You may submit comments by either of the following methods:

• Federal eRulemaking Portal: Go to http://www.regulations.gov/fdmspublic/component/main?main=DocketDetail&d=APHIS-2008-0141 to submit or view comments and to view supporting and related materials available electronically.

• Postal Mail/Commercial Delivery: Please send two copies of your comment to Docket No. APHIS-2008-0141, Regulatory Analysis and Development, PPD, APHIS, Station 3A-03.8, 4700 River Road Unit 118, Riverdale, MD 20737-1238. Please state that your comment refers to Docket No. APHIS-2008-0141.

Reading Room: You may read any comments that we receive on the environmental assessment in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Carmen Soileau, Senior Entomologist, Evaluation and Permitting of Regulated Organisms and Soil, PPQ, APHIS, 4700 River Road Unit 133, Riverdale, MD 20737-1237; (301) 734-5055.

SUPPLEMENTARY INFORMATION:

Background

The Animal and Plant Health Inspection Service (APHIS) is proposing to issue permits for the release of a wasp, Tetramesa romana, into the continental United States for use as a biological control agent to reduce the severity of Arundo donax infestations.

A. donax is a highly invasive, bamboo-like weed that was introduced to North America in the early 1500s for its fiber uses. It is among the fastest growing plants in the continental United States, making it a severe threat to riparian areas, where it causes erosion, damages bridges, alters channel morphology, increases costs for chemical and mechanical control along transportation corridors, and impedes law enforcement activities along international borders. Additionally, A. donax consumes excessive amounts of water, competing for water resources in arid regions where these resources are critical to the environment, agriculture, and municipal users.

Existing A. donax management options include herbicides, prescribed fires, biomass removal, and other methods. However, these management measures are ineffective, expensive, temporary, and have impacts on species other than A. donax. Therefore, APHIS is proposing to issue permits for the release of a wasp, T. romana, into the continental United States in order to reduce the severity and extent of A. donax infestations.

The proposed biological control agent, T. romana, is a wasp in the insect family Eurytomidae. It has a widespread presence around the Mediterranean basin, from Turkey to Spain and Morocco, and was also found at one site in southern Africa and one site in China. Two populations of T. romana have recently been discovered near Santa Barbara, CA, and in Austin, TX. The establishment of T. romana in Texas indicates that the wasp has a moderate level of cold hardiness and is therefore expected to establish throughout the range of A. donax.

Female wasps lay their eggs inside the shoot cavity of the target weed, A. donax. A few days after eggs are laid, an abnormal overgrowth of plant tissue called gall tissue develops inside the A. donax shoot cavity. The wasp larvae feed on the expanding gall tissue during their 26- to 48-day generation period, resulting in stunted stem growth and sometimes death of the stem.

Field studies were conducted throughout Mediterranean Europe to test the host specificity of T. romana using non-target species that were morphologically similar to A. donax or native to the southern United States. The development of T. romana was recorded only on A. donax and A. formosana, an exotic ornamental plant native to Taiwan, with greater reproduction and faster development time on A. donax. Based on these studies, T. romana is determined to be host specific to the Arundo genus.

T. romana may not be successful in reducing the A. donax population in the continental United States, but its use is expected to be effective in combination with other control methods or biological control agents that may be released in the future.

APHIS' review and analysis of the proposed action are documented in detail in an environmental assessment (EA) entitled “Field Release of the Arundo Wasp, Tetramesa romana (Hymenoptera: Eurytomidae), an Insect for Biological Control of Arundo donax (Poaceae), in the Continental United States” (October 2008). We are making the EA available to the public for review and comment. We will consider all comments that we receive on or before the date listed under the heading DATES at the beginning of this notice.

The EA may be viewed on the Regulations.gov Web site or in our reading room (see ADDRESSES above for instructions for accessing Regulations.gov and information on the location and hours of the reading room). You may request paper copies of the environmental EA by calling or writing to the person listed under FOR FURTHER INFORMATION CONTACT. Please refer to the title of the EA when requesting copies.

The EA has been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1), and (4) APHIS' NEPA Implementing Procedures (7 CFR part 372).

Done in Washington, DC, this 3rd day of March 2009.
Kevin Shea,
Acting Administrator, Animal and Plant Health Inspection Service.

[FR Doc. E9-4881 Filed 3-5-09; 8:45 am]

BILLING CODE 3410-34-P